DEPARTMENT OF DEFENSE

Office of the Secretary

[Transmittal No. 17-73]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 17-73 with attached Policy Justification; Sensitivity of Technology; and State Department Emergency Determination and Justification.

Dated: July 19, 2019.
Aaron T. Siegel,
Alternate OSD Federal Register Liaison Officer, Department of Defense.

BILLING CODE 5001-06-P

BILLING CODE 5001-06-C

Transmittal No. 17-73

Notice of Proposed Issuance of Letter of Offer Pursuant to Section 36(b)(1) of the Arms Export Control Act, as amended

(i) Prospective Purchaser: Government of the United Arab Emirates

(ii) Total Estimated Value:

Major Defense Equipment * | $850 million
Other | $ 50 million
TOTAL | $900 million

(iii) Description and Quantity or Quantities of Articles or Services under Consideration for Purchase:

Major Defense Equipment (MDE):

Twenty thousand four (20,004) Advanced Precision Kill Weapon Systems (APKWS) II All-Up-Rounds

Non-MDE:

Also included is weapon support and test equipment, spares, technical publications, personnel training, other training equipment, transportation, U.S. Government and contractor engineering, technical and logistics support services, and other related elements of logistical and program support.

(iv) Military Department: Navy (AE-P-ABL)

(v) Prior Related Cases, if any: AE-P-ABH (P&A) and AE-P-ABI (P&A)

(vi) Sales Commission, Fee, etc., Paid, Offered, or Agreed to be Paid: None

(vii) Sensitivity of Technology Contained in the Defense Article or Defense Services Proposed to be Sold: See Attached Annex

(viii) Date Report Delivered to Congress: May 24, 2019

* As defined in Section 47(6) of the Arms Export Control Act.

POLICY JUSTIFICATION

United Arab Emirates (UAE)—Advanced Precision Kill Weapon System (APKWS)

The Government of the United Arab Emirates has requested a possible sale of twenty thousand four (20,004) Advanced Precision Kill Weapon Systems (APKWS) II All-Up-Rounds. Also included is weapon support and test equipment, spares, technical publications, personnel training, other training equipment, transportation, U.S. Government and contractor engineering, technical and logistics support services, and other related elements of logistical and program support. The estimated total case value is $900 million.

The Secretary of State has determined and provided detailed justification that an emergency exists that requires the immediate sale to the United Arab Emirates of the above defense articles (and defense services) in the national security interests of the United States, thereby waiving the Congressional review requirements under Section 36(b) of the Arms Export Control Act, as amended.

This proposed sale will contribute to the foreign policy and national security of the United States by improving the security of an important partner in the region. This sale is consistent with U.S. initiatives to provide key partners in the region with modern systems that will enhance interoperability with U.S. forces and increase security.

The APKWS will provide the UAE with flexibility in the use of proportional, precision fires when operating in remote and mountainous regions as well as populated areas. The APKWS will complement the Hellfire II missile as a secondary precision munition with lower collateral damage potential. These aspects make the APKWS, employed in conjunction with UAE's multiple types of helicopters and Hellfire II missiles, an appropriate munition for the UAE's counterterrorism operations. UAE will have no difficulty absorbing the APKWS into its armed forces.

The proposed sale of this equipment and support will not alter the basic military balance in the region.

The prime contractor will be BAE Systems, Nashua, NH. There are no known offset agreements proposed in connection with this potential sale.

Implementation of this proposed sale will require up to 20 U.S. Government and up to 30 contractor representatives to travel to UAE.

There will be no adverse impact on U.S. defense readiness as a result of this proposed sale.

Transmittal No. 17-73

Notice of Proposed Issuance of Letter of Offer Pursuant to Section 36(b)(1) of the Arms Export Control Act

Annex Item No. vii

(vii) Sensitivity of Technology:

1. The APKWS II All-Up-Round (AUR) is an air-to-ground weapon that consists of an APKWS II Guidance Section (GS), legacy 2.75-inch MK66 Mod 4 rocket motor and legacy MK152, MK282 and MK435/436 warhead/fuze. The APKWS II GS is installed between the rocket motor and warhead and provides a Semi-Active Laser (SAL) precision capability to legacy unguided 2.75-inch rockets. The APKWS II is procured as an independent component to be mated to the appropriate 2.75-inch warhead/fuze. The GS is manually set with the appropriate laser code during loading and is launched from any platform configured with a LAU-68F/A, or similar launcher(s). After launch, the GS activates and the seeker detects laser energy reflected from a target designated with a remote or autonomous laser. The control system then guides the rocket to the target. The only interface required with the host platform is a 28V direct current (DC) firing pulse.

2. APKWS II increases stowed kills by providing precise engagements at standoff ranges with sufficient accuracy for a high single-shot probability of hit against soft and lightly armored targets, thereby minimizing collateral damage. The APKWS II is capable of day and night operation and performance in many adverse environments.

3. The APKWS II requires no depot maintenance. Activities to prepare the APKWS II for use include setting the laser code switches, turning on the Electronic Thermal Battery Initiator, and loading the AUR into the launcher. Wing Slot Seals (WSS) may be replaced, if necessary, at an I-level maintenance facility.

4. All training for APKWS II is unclassified. The training required is:

a. Pilot training to effectively employ the APKWS II,

b. Ordnance Handler training for safe handling and preparation of the APKWS II and AUR; and

c. Maintenance training for replacement of WSS.

5. If a technologically advanced adversary were to obtain knowledge of specific hardware, the information could be used to develop countermeasures which might reduce weapons system effectiveness or be used in the development of a system with similar or advanced capabilities.

6. A determination has been made that the United Arab Emirates can provide substantially the same degree of protection for sensitive technology being released as the U.S. Government. This proposed sustainment program is necessary to the furtherance of the U.S. foreign policy and national security objectives outlined in the policy justification.

7. All defense articles and services listed in this transmittal are authorized for release and export to the Government of the United Arab Emirates.

BILLING CODE 5001-06-P

[FR Doc. 2019-15746 Filed 7-23-19; 8:45 am]

BILLING CODE 5001-06-C